DEPARTMENT OF TRANSPORTATION

Federal Aviation Administration

EUROCAE WG-96/RTCA SC-236 Joint Plenary #1 Standards for Wireless Avionics Intra-Communication System (WAIC) Within 4200-4400 MHz

AGENCY: Federal Aviation Administration (FAA), U.S. Department of Transportation (DOT).

ACTION: Notice.

SUMMARY: The FAA is issuing this notice to advise the public of a meeting of EUROCAE WG-96/RTCA SC-236 Joint Plenary #1 Standards for Wireless Avionics Intra-Communication System (WAIC) within 4200-4400 MHz.

Please inform adrian.cioranu@eurocae.net of your intention to attend the meeting. Please inform also peter.anders@airbus.com, the host of the meeting.

Find information direction & maps: https://goo.gl/maps/rkHxCEfN1sL2.

DATES: The meeting will be held Wednesday, September 21st through Friday, September 23rd 2016.

ADDRESSES: The meeting will be held at: ZAL Zentrum für Angewandte Luftfahrtforschung ZAL, Hamburg, Hein-Saß-Weg 22, 21129 Hamburg, Germany.

FOR FURTHER INFORMATION CONTACT: Adrian Cioranu at Adrian.cioranu@eurocae.net, +33 1 40 92 79 31 or Rebecca Morrison at rmorrison@rtca.org or (202) 330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the EUROCAE WG-96/RTCA SC-236 Joint Plenary #1 Standards for Wireless Avionics Intra-Communication System (WAIC) within 4200-4400 MHz. The agenda will include the following:

September 21, 2016 (9:30-17:00), September 22, 2016 (9:00-17:00), and September 23, 2016 (9:00-13:00)

Welcome/Administrative Duties

1. Presentation of RTCA/EUROCAE Joint Committee Organization and Coordination

2. IPR/Membership Call-Out and Introductions

3. Acceptance of Meeting Minutes for the First Plenary of SC-236

4. Presentation of the goals of content for the MOPS

5. Discussion of Structure of Joint Committees

6. Break-out into Initial Working Groups

7. Reports of the Plans for the Working Groups

8. Review of Action Items

9. Plan for next meeting

10. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 17, 2016.
Mohannad Dawoud,
Management & Program Analyst, Partnership Contracts Branch, ANG-A17, NextGen, Procurement Services Division, Federal Aviation Administration.

[FR Doc. 2016-19944 Filed 8-19-16; 8:45 am]

BILLING CODE 4910-13-P